DEPARTMENT OF JUSTICE

Antitrust Division

Notice Pursuant to the National Cooperative Research and Production Act of 1993—Personalization Consortium, Inc.

Notice is hereby given that, on September 13, 2000, pursuant to Section 6(a) of the National Cooperative Research and Production Act of 1993, 15 U.S.C. 4301 et seq. (“the Act”), Personalization Consortium, Inc. has filed written notifications simultaneously with the Attorney General and the Federal Trade Commission disclosing changes in its membership status. The notifications were filed for the purpose of extending the Act's provisions limiting the recovery of antitrust plaintiffs to actual damages under specified circumstances. Specifically, Charles Schwab & Co., Inc., San Francisco, CA; Vivaldi Networks, Inc., Menlo Park, CA; Angara E-Commerce Services, Mountain View, CA; Broadbase Software, Menlo Park, CA; Cyber Dialogue, New York, NY; Eucid Inc., Chicago, IL; Derivion, Markham, Ontario, Canada; Quadstone, Boston, MA; SilverStream Software, Inc., Billerica, MA; Hot Data, Inc., Austin, TX; Naviant, Newtown Square, PA; Accrue Software, Fremont, CA; Commerce Tone, Inc., Burlington, MA; Yo.com, New York, NY; Insight First, New York, NY; Art Technology Group, Inc., Cambridge, MA; and Aptilon Health, Boston, MA have been added as parties to this venture. The following members have changed their names: PrivaSeek, Broomfield, CO to Persona, Inc., Broomfield, CO; and CERES RO, Relationship Technology Solutions by NCR, Raleigh, NC to NCR, Raleigh, NC. Also, KPMG Consulting, LLC, Mountain View, CA have been dropped as parties to this venture.

No other changes have been made in either the membership or planned activity of the group research project. Membership in this group research project remains open, and Personalization Consortium, Inc. intends to file additional written notification disclosing all changes in membership.

On June 15, 2000, Personalization Consortium, Inc. filed its original notification pursuant to Section 6(a) of the Act. The Department of Justice published a notice in the Federal Register pursuant to Section 6(b) of the Act on August 11, 2000 (65 FR 49266).

Constance K. Robinson,
Director of Operations, Antitrust Division.

[FR Doc. 00-25897 Filed 10-6-00; 8:45 am]

BILLING CODE 4410-11-M